DEPARTMENT OF STATE

[Public Notice 4691]

Bureau of Educational and Cultural Affairs Request for Grant Proposals: Professional Exchange Programs in Turkey

SUMMARY: The Office of Citizen Exchanges of the Bureau of Educational and Cultural Affairs announces an open competition for Professional Exchange Programs in Turkey. The Bureau anticipates awarding three to five grants under this competition. Projects should target one of the following themes: Human rights law, media internships and women's leadership. Public and private non-profit organizations meeting the provisions described in Internal Revenue Code section 26 U.S.C. 501(c)(3) may submit proposals to support international projects in the United States and Turkey involving current or potential leaders.

Important Note: This Request for Grant Proposals contains language in the “Shipment and Deadline for Proposals” section that is significantly different from that used in the past. Please pay special attention to procedural changes as outlined.

Announcement Title and Number: All correspondence with the Bureau concerning this RFGP should reference the “Professional Exchange Programs in Turkey “ and number ECA/PE/C/EUR-04-68.

FOR FURTHER INFORMATION CONTACT: Interested organizations/institutions may contact the Office of Citizen Exchanges, Room 220, SA-44, U.S. Department of State, 301 4th Street, SW., Washington, DC 20547, Attention: Professional Exchange Programs in Turkey, telephone number (202) 260-6230, fax number (202) 619-4350 to request a Solicitation Package. The Solicitation Package, which includes the Request for Grant Proposals (RFGP), the Proposal Submission Instructions (PSI) and the diversity statement, contains detailed award criteria, required application forms, specific budget instructions, and standard guidelines for proposal preparation.

For specific inquiries, please contact Chris Miner by phone or email at (202) 401-7342 (minercx@state.gov).

To Download a Solicitation Package Via Internet: The entire Solicitation Package may be downloaded from the Bureau's Web site at http://exchanges.state.gov/education/RFGPs. Please read all information before downloading.

Please read the complete Federal Register announcement before sending inquiries or submitting proposals. Once the RFGP deadline has passed, Bureau staff may not discuss this competition with applicants until the proposal review process has been completed.

General Program Guidelines: This competition is based on the premise that people-to-people exchanges encourage and strengthen democratic initiatives and nurture the social, political and economic development of societies. Exchanges and training programs supported by institutional grants from the Bureau should operate at two levels: they should enhance institutional partnerships, and they should offer practical information and experience to individuals and groups to assist them with their professional responsibilities. Strong proposals usually have the following characteristics:

• A proven track record of working in the proposed issue area and country;

• Experienced staff with language facility and a commitment by the staff to monitor projects locally to ensure implementation;

• A clear, convincing plan showing how permanent results will be accomplished as a result of the activity funded by the grant;

• A post-grant plan that includes activities that will take place after the Bureau-funded grant has concluded. (See Review Criterion #5 below for more information on post-grant activities.) and;

• A detailed discussion of project needs and feasibility. Proposals that include costs or time for a needs assessment may be deemed less competitive.

Applicants should identify the local organizations and individuals in Turkey with whom they are proposing to collaborate and describe in detail previous cooperative programming and/or contacts. Specific information about the counterpart organizations' activities and accomplishments should be included in the section under “Institutional Capacity.” (See Review Criterion #2 below.) Proposals should contain letters of support tailored to the proposed project from partner organizations in Turkey. Applicants should clearly outline in the narrative the foreign partner's role and responsibilities in project management and implementation.

Proposal narratives must clearly demonstrate an organization's commitment to consult closely with the designated program officer at Bureau of Educational and Cultural Affairs, and with Public Affairs Section at the U.S. Embassy in Ankara, Turkey. Proposal narratives must confirm that all materials developed for the project will acknowledge Bureau funding for the program as well as a commitment to invite representatives of Embassy Ankara to participate in various program sessions/site visits. Please note that this will be a formal requirement in all final grant awards.

Suggested Program Designs

Bureau-supported exchanges may include internships; study tours; short-term, non-technical experiential learning; extended and intensive workshops; and seminars taking place in the United States or overseas. Examples of program activities include:

1. A U.S.-based program that includes: orientation to program purposes and to U.S. society; study tour/site visits; professional internships/placements; interaction and dialogue; hands-on training; professional development; and action plan development. Proposals that include U.S.-based training will receive the highest priority.

2. Capacity-building/training-of-trainer (TOT) workshops to help participants to identify priorities, create work plans; strengthen professional and volunteer skills; share their experience with committed people within each country; and become active in a practical and valuable way.

3. Site visits by U.S. facilitators/experts to monitor projects in the region and to provide additional training and consultations as needed.

Activities ineligible for support: The Office does not support proposals limited to conferences or seminars (i.e., one to fourteen-day programs with plenary sessions, main speakers, panels, and a passive audience). It will support conferences only when they are a small part of a larger project in duration that is receiving Bureau funding from this competition. No funding is available exclusively to send U.S. citizens to conferences or conference-type seminars overseas; nor is funding available for bringing foreign nationals to conferences or to routine professional association meetings in the United States.

Selection of Participants: All grant proposals should clearly describe the type of persons that will participate in the program as well as the participant selection process. For programs that include U.S. internships, applicants should submit letters of support from host institutions. In the selection of foreign participants, the Bureau and U.S. Embassies retain the right to review all participant nominations and to accept or refuse participants recommended by grantee institutions. When American participants are selected, grantee institutions must provide their names and brief biographical data to the Office of Citizen Exchanges. Priority in two-way exchange proposals will be given to foreign participants who have not previously traveled to the United States.

Programs must comply with J-1 visa regulations. Please refer to “Adherence with J-1 Visa Regulations” below.

Program Data Requirements: Organizations awarded grants will be required to maintain specific data on program participants and activities in an electronically accessible database format that can be shared with the Bureau as required. At a minimum, the data must include the following:

(1) Name, address, contact information and biographic sketch of all persons who travel internationally on funds provided by the grant or who benefit from the grant funding but do not travel.

(2) Itineraries of international and domestic travel, providing dates of travel and cities in which any exchange experiences take place.

Adherence to All Regulations Governing the J Visa

The Office of Citizen Exchanges of the Bureau of Educational and Cultural Affairs is the official program sponsor of the exchange program covered by this RFGP, and an employee of the Bureau will be the “Responsible Officer” for the program under the terms of 22 CFR part 62, which covers the administration of the Exchange Visitor Program (J visa program). Under the terms of 22 CFR part 62, organizations receiving grants under this RFGP will be third parties “cooperating with or assisting the sponsor in the conduct of the sponsor's program.” The actions of grantee program organizations shall be “imputed to the sponsor in evaluating the sponsor's compliance with” 22 CFR part 62. Therefore, the Bureau expects that any organization receiving a grant under this competition will render all assistance necessary to enable the Bureau to fully comply with 22 CFR part 62 et seq.

The Bureau of Educational and Cultural Affairs places great emphasis on the secure and proper administration of Exchange Visitor (J visa) Programs and adherence by grantee program organizations and program participants to all regulations governing the J visa program status. Therefore, proposals should explicitly state in writing that the applicant is prepared to assist the Bureau in meeting all requirements governing the administration of Exchange Visitor Programs as set forth in 22 CFR part 62. If your organization has experience as a designated Exchange Visitor Program Sponsor, the applicant should discuss its record of compliance with 22 CFR part 62 et seq., including the oversight of their Responsible Officers and Alternate Responsible Officers, screening and selection of program participants, provision of pre-arrival information and orientation to participants, monitoring of participants, proper maintenance and security of forms, record-keeping, reporting and other requirements.

The Office of Citizen Exchanges will be responsible for issuing DS-2019 forms to participants in this program.

A copy of the complete regulations governing the administration of Exchange Visitor (J) programs is available at http://exchanges.state.gov or from: United States Department of State, Office of Exchange Coordination and Designation, ECA/EC/ECD—SA-44, Room 734, 301 4th Street, SW., Washington, DC 20547, Telephone: (202) 401-9810. FAX: (202) 401-9809.

Evaluation: In general, evaluation should occur throughout the project. The evaluation should incorporate an assessment of the program from a variety of perspectives. Specifically, project assessment efforts will focus on: (a) Determining if objectives are being met or have been met, (b) identifying any other related training needs, and (c) assessing if the project has effectively identified resources, advocates, and financial support for the sustainability of future projects. Informal evaluation through discussions and other sources of feedback will be carried out throughout the duration of the project. Formal evaluation must be conducted at the end of each component, should measure the impact of the activities and should obtain participants' feedback on the program content and administration. A detailed evaluation will be conducted at the conclusion of the project and a report will be submitted to the Department of State Bureau of Educational and Cultural Affairs. When possible, the evaluation should be conducted by an independent evaluator.

Program Information: Overview: The Bureau welcomes proposals that respond directly to the themes listed below. Given budgetary considerations, projects in countries and for themes other than those listed will not be eligible for consideration and will be ruled technically ineligible. The themes listed below are important to the Office of Citizen Exchanges, but no guarantee is made or implied that grants will be awarded in all categories.

In order to prevent duplication of effort, proposals should reflect an understanding of the work of international and USG agencies so that projects complement other exchange or assistance programs.

Proposals that include two-way exchanges will be considered more competitive than those that propose exchanges in one direction. Applicants should carefully review the following information in formulating proposals in Turkey.

Proposal narratives should provide detailed information on major program activities to be undertaken, including agendas for both U.S. and in-country activities, a clear explanation of participant recruitment and selection strategies and letters of commitment from any outside partners. Proposals should also take into account the need for ongoing sharing of information, training and concrete plans for self-sustainability.

Applicants are strongly encouraged to consult with the Public Affairs Section at the U.S. Embassy in Ankara regarding program content and partner organizations before submitting proposals. Applicants must demonstrate their administrative and programmatic ability to carry out in-country activities without the assistance of the Public Affairs Sections in Ankara and Istanbul. Award-receiving applicants will be expected to work very closely with the Office of Citizen Exchanges and the Embassy in Ankara on all aspects of the program.

To be eligible for a grant award under this competition, the proposed professional training and exchange projects in Turkey must address one of the following specific themes.

☐ Judicial Reform

☐ Media

☐ Women's Leadership

Judicial Reform

Turkey is engaged in a comprehensive reform effort aimed at advancing its European Union candidacy, an objective that is strongly supported by the Mission. The Turkish Parliament has adopted a wide range of human rights-related reform legislation over the past two years. Implementation of the reforms has, however, been slow in some areas, including the judicial field. For example, prosecutors still open cases against individuals for non-violent expression, although such cases normally end in acquittal. All detainees have the right to immediate attorney access, but the police often fail to inform detainees of this right. An estimated five percent of detainees consult with attorneys. Prosecutors are charged with supervising the police during the investigation phase, but lack the resources to do so.

Trials are often lengthy, with overworked felony courts typically holding one hearing per month.

The Bureau welcomes proposals for a legal exchange project between Turkey and the U.S. that focuses on the topics of freedom of expression, police conduct, and trial alternatives. The project should include activities that develop measures and procedures that will improve the way judicial and police professionals handle these important issues. The Bureau expects that the selected grantee will work closely with the Turkish Ministry of Justice and the Turkish Constitutional Court throughout the project. Objectives for each topic are briefly outlined below:

☐ Freedom of expression. The project should aim to create a judicial directive that would establish the official Turkish position on freedom of expression standards, as established by the European Court of Human Rights.

☐ Police conduct. This initiative should establish a network of legal institutions to address police misconduct in Turkey. Such a network would include an independent oversight body, a mechanism for judicial oversight, and internal police disciplinary and training bodies.

☐ Trial alternatives. In order to reduce the caseload of Turkish prosecutors, project activities should support the design and implementation of a strategy for trial alternatives.

Primary Turkish participants should include judges and prosecutors from the State Security Courts, Felony Courts, and Courts of Cassation (appeals courts). Judges and prosecutors from other sectors, along with defense lawyers, academics, NGOs and others involved in Turkey's judicial system, could also be considered for participation.

Project activities should include exchanges in both the U.S. and Turkey. In the U.S., seminars, workshops, site visits and shadowing or internship opportunities may be arranged. Turkish judges and prosecutors would meet with their U.S. counterparts and other experts in human rights law, visit university law schools with relevant programs, observe court proceedings, and consult on the development of materials.

It is anticipated that three separate programs in the United States would be undertaken. In Turkey, U.S. participants should conduct workshops, seminars, and consultations on mechanisms in our two legal systems to protect freedom of expression, among other topics. It is expected that the in-country activities would include a component to reach out to a wider audience so that the project is not limited only to participants in the U.S. program. In addition, the program in Turkey would include the design and development of a mid-career professional training module for judges and prosecutors to be administered by the training department at the Ministry of Justice.

Project funding: The total funding available for this project is approximately $400,000. The Bureau anticipates awarding one grant for this project.

Media Internships

Turkey's ongoing process of democratization has brought about tremendous change in the country's media. Prior to the 1980 military coup, the Turkish media was tightly controlled by the state. Since the reestablishment of civilian authority in 1983, Turkey has seen an enormous expansion in freedom of the press. Given the power of the media in Turkey to set the political agenda and shape public opinion, including views of the United States, it is in our interest to work with Turkish media personnel. This exchange program should provide an opportunity for Turkish and U.S. media professionals to exchange views on a wide range of issues.

The Bureau is seeking proposals for a media exchange project between Turkey and the U.S. It would be a two-part exchange of Turkish media professionals traveling to the U.S. and would also include visits to Turkey by American counterparts.

The first stage would be a visit to the U.S. for eight to ten relatively high-level news editors from major newspapers and at broadcast outlets for a two-week introduction to the U.S. media. The two-week program would consist of a seminar at a university or media-related foundation, job-shadowing placements in U.S. newspapers and broadcast outlets, site visits and a one-day debriefing. The seminar and placements would provide an opportunity to exchange views and information on the media environment and the journalism profession in Turkey and the U.S. Topics could include, but would not be limited to, the role of the editor in the news process and the challenges and responsibilities of a free and independent media.

The second stage would be for eight to ten young journalists from the print and electronic media. It would begin with a similar seminar at a university or media-related foundation, and be followed by three-week placements at appropriate newspapers and broadcast media outlets that would provide an opportunity for orientation, observation, and practical hands-on experience. The program would conclude with a two-day debriefing.

Both U.S. visits would be followed by visits to Turkey by one or more U.S. media experts (editors, correspondents, academics) to conduct seminars and workshops for a wider audience and to visit the newspapers and broadcast outlets where the Turkish visitors to the U.S. are employed. A more senior media professional(s) from the U.S. would follow up the visit of the first group, while a correspondingly more junior U.S. professional(s) would come to Turkey after the visit of the second group.

Projects should include both English-speaking and non-English speaking participants. Proposals should clearly describe what provisions will be made for non-English speakers.

A list of media establishments willing to host the participants and tentative letters of commitment should be included in the proposal, as should information pertinent to the university or media-related foundation that would conduct the seminar.

Please note that the winning applicant must coordinate closely with the Public Affairs Section of the U.S. Embassy in Ankara on program development and implementation. Embassy Ankara will nominate all participants for the program.

Project funding: The total funding available for this project is approximately $185,000. The Bureau anticipates awarding one grant for this project.

Women's Leadership and Democracy Building Project

Over the past decade, women's organizations in Turkey have emerged as an important force for social change, economic development, and democratic governance. However, the low number of active women leaders in many fields, ranging from politics to business to civil society, indicates that there remains significant progress to achieve in obtaining equal status and opportunity for women, particularly in rural areas and small cities outside Ankara and Istanbul. That said, women in Turkey have had far greater success in and opportunities for fulfilling leadership roles than have their counterparts in neighboring countries.

The Bureau seeks proposals that would simultaneously achieve two related objectives. The first objective is to enhance women's leadership roles in civil society and democratic governance. The second goal is to provide training to Turkish women's NGOs that would equip them with the organizational capacity to share expertise with their counterparts in neighboring countries and establish ongoing institutional relationships and dialogue between NGOs from Turkey and NGOs from other countries.

Turkish participants should include women leaders and aspiring leaders who are active in local or national governance and in civil society NGOs. Participants should be recruited from outlying cities and towns, in addition to Ankara and Istanbul.

Projects will include both English-speaking and non-English-speaking participants, with the latter predominating. Projects should clearly describe what provisions will be made for non-English speakers.

Programs would focus on developing management skills for organizational efficiency, increasing visibility and effectiveness in the political and civil society spheres, influencing decisions at the local and national levels of government, and building NGO networks and coalitions within Turkey and with counterparts in neighboring countries. Program activity may take place in Turkey and the United States; there must be a component that is conducted in Turkey. Applicants should consult closely with the Public Affairs Section in Ankara in the selection of an in-country partner or partners, which would handle all activities based in Turkey, including participant recruitment and selection and workshop and consultation logistics.

Project funding: The total funding available for this project is approximately $185,000. The Bureau anticipates awarding one grant for this project.

The proposal submitted by your organization must demonstrate how the above-listed goals will be met. Your proposal narrative should also provide detailed information on major program activities to be undertaken, including agendas for both U.S. and in-country activities, a clear explanation of participant recruitment and selection strategies and letters of commitment from any outside partners. Proposals should also take into account the need for ongoing sharing of information, training and concrete plans for self-sustainability.

Budget Guidelines: Grants awarded to eligible organizations with less than four years of experience in conducting international exchange programs will be limited to an award of $60,000. Applicants must submit a comprehensive budget for the entire program and must provide a summary budget as well as breakdowns reflecting both administrative and program budgets in the proposal. Applicants may provide separate sub-budgets for each program component, phase, location, or activity to provide clarification. Please refer to the Proposal Submission Instructions (PSI) for complete budget guidelines and formatting instructions.

Since Bureau grant assistance constitutes only a portion of total project funding, proposals should provide evidence of other anticipated sources of financial and in-kind support. Applicants are strongly encouraged to provide cost sharing to the fullest extent possible. State Department Review Panels will consider proposals that offer little or no cost sharing less competitive under the criterion, “Cost Effectiveness and Cost Sharing”.

Applicants must submit a comprehensive budget for the entire program.

The following are deemed allowable program costs:

1. Travel. International and domestic airfare (per the “Fly America Act”), ground transportation, and visas for U.S. participants. (J-1 visas for Bureau-supported participants from Turkey to travel to the U.S. are issued at no charge.)

2. Per Diem. For U.S.-based programming, organizations should use the published Federal per diem rates for individual U.S. cities. For activities in Turkey, the Bureau strongly encourages applicants to budget realistic costs that reflect the local economy. Domestic per diem rates may be accessed at: http://policyworks.gov/org/main/mt/homepage/mtt/perdiem/perd03d.html. Foreign per diem rates can be accessed at: http://www.state.gov/m/a/als/prdm/.

3. Interpreters. For U.S.-based activities, ECA strongly encourages applicants to hire their own locally-based interpreters or may ask the Bureau to assign U.S. Department of State interpreters. Typically, one interpreter is provided for every four visitors that require interpreting. When an applicant proposes to use State Department interpreters, the following expenses should be included in the budget: Published Federal per diem rates (both “lodging” and “M&IE”); “home-program-home” transportation in the amount of $400 per interpreter; reimbursement for taxi fares; and cell phone usage at $10 per week. If the applicant uses State Department interpreters, salary expenses will be covered by the Bureau and should not be part of an applicant's proposed budget. Bureau funds cannot support interpreters who accompany delegations from their home country or travel internationally.

4. Book and cultural allowance. Foreign participants are entitled to a one-time cultural allowance of $150 per person, plus a book allowance of $50. Interpreters should be reimbursed up to $150 for expenses when they escort participants to cultural events. U.S. program staff, trainers or participants are not eligible to receive these benefits.

5. Consultants. Consultants may be used to provide specialized expertise or to make presentations. Daily honoraria cannot exceed $250 per day. Subcontracting organizations may also be used, in which case the written agreement between the prospective grantee and subcontractor should be included in the proposal. Such subcontracts should detail the division of responsibilities and proposed costs. Subcontracts should be itemized in the budget.

6. Room rental. Room rental may not exceed $250 per day.

7. Materials development. Proposals may contain costs to purchase, develop and translate materials for participants.

The Bureau strongly discourages the use of automatic translation software for the preparation of training materials or any information distributed to the group of participants or network of organizations. Costs for high-quality translation of materials should be anticipated and included in the budget. Grantee organizations should expect to submit a copy of all program materials to the Bureau.

8. Equipment. Proposals may include limited costs to purchase equipment for Turkey-based programming such as computers, fax machines and copy machines. Costs for furniture are not allowed. Equipment costs must be kept to a minimum.

9. Working meal. Only one working meal may be provided during the program. Per capita costs may not exceed $5-8 for a lunch and $14-20 for a dinner, excluding room rental. The number of invited guests may not exceed participants by more than a factor of two-to-one. Interpreters must be included as participants.

10. Return travel allowance. A return travel allowance of $70 for each foreign participant may be included in the budget. The allowance may be used for incidental expenses incurred during international travel.

11. Health Insurance. Foreign participants will be covered under the terms of a Bureau-sponsored health insurance policy. The premium is paid by the Bureau directly to the insurance company. Applicants are permitted to include costs for travel insurance for U.S. participants in the budget.

12. Wire transfer fees. When necessary, applicants may include costs to transfer funds to partner organizations overseas. Grantees are urged to research applicable taxes that may be imposed by host governments on these transfers.

13. In-country travel costs for visa processing purposes. Given the new requirements associated with obtaining J-1 visas for Bureau-supported participants, applicants should include costs for participant and/or in-country partner travel and shipping to U.S. embassies or consulates for visa processing purposes, such as interviews and delivery/pick up of DS-2019 forms.

14. Administrative Costs. Costs necessary for the effective administration of the program may include salaries for grantee organization employees, benefits, and other direct and indirect costs per detailed instructions in the Application Package. While there is no rigid ratio of administrative to program costs, priority will be given to proposals whose administrative costs are less than twenty-five (25) percent of the total requested from the Bureau. Proposals should show strong administrative cost-sharing contributions from the applicant, the in-country partner and other sources.

Please refer to the Solicitation Package for complete budget guidelines and formatting instructions.

New OMB Requirement

An OMB policy directive published in the Federal Register on Friday, June 27, 2003, requires that all organizations applying for Federal grants or cooperative agreements must provide a Dun and Bradstreet (D&B) Data Universal Numbering System (DUNS) number when applying for all Federal grants or cooperative agreements on or after October 1, 2003. The complete OMB policy directive can be referenced at http://www.whitehouse.gov/omb/fedreg/062703_grant_identifier.pdf. Please also visit the ECA Web site at http://exchanges.state.gov/education/rfgps/menu.htm for additional information on how to comply with this new directive.

Shipment and Deadline for Proposals:

Important Note: The deadline for this competition is Thursday, June 10, 2004. In light of recent events and heightened security measures, proposal submissions must be sent via a nationally recognized overnight delivery service (i.e., DHL, Federal Express, UPS, Airborne Express, or U.S. Postal Service Express Overnight Mail, etc.) and be shipped no later than the above deadline. The delivery services used by applicants must have in-place, centralized shipping identification and tracking systems that may be accessed via the Internet and delivery people who are identifiable by commonly recognized uniforms and delivery vehicles. Proposals shipped on or before the above deadline but received at ECA more than seven days after the deadline will be ineligible for further consideration under this competition. Proposals shipped after the established deadlines are ineligible for consideration under this competition. It is each applicant's responsibility to ensure that each package is marked with a legible tracking number and to monitor/confirm delivery to ECA via the Internet. Delivery of proposal packages may not be made via local courier service or in person for this competition. Faxed documents will not be accepted at any time. Only proposals submitted as stated above will be considered.

Applicants must follow all instructions in the Solicitation Package. The original and eight copies of the application should be sent to: U.S. Department of State, SA-44, Bureau of Educational and Cultural Affairs, Ref.: ECA/PE/C/EUR-04-68, Program Management, ECA/EX/PM, Room 534, 301 4th Street, SW., Washington, DC 20547.

Applicants must also submit the “Executive Summary” and “Proposal Narrative” sections of the proposal in text (.txt) format on a PC-formatted disk. The Bureau will provide these files electronically to the Public Affairs Section at the U.S. embassy for its review.

Diversity, Freedom and Democracy Guidelines

Pursuant to the Bureau's authorizing legislation, programs must maintain a non-political character and should be balanced and representative of the diversity of American political, social, and cultural life. “Diversity” should be interpreted in the broadest sense and encompass differences including, but not limited to ethnicity, race, gender, religion, geographic location, socio-economic status, and disabilities. Applicants are strongly encouraged to adhere to the advancement of this principle both in program administration and in program content. Please refer to the review criteria under the “Support for Diversity” section for specific suggestions on incorporating diversity into the total proposal. Public Law 104-319 provides that “in carrying out programs of educational and cultural exchange in countries whose people do not fully enjoy freedom and democracy,” the Bureau “shall take appropriate steps to provide opportunities for participation in such programs to human rights and democracy leaders of such countries.” Public Law 106-113 requires that the governments of the countries described above do not have inappropriate influence in the selection process. Proposals should reflect advancement of these goals in their program contents, to the full extent deemed feasible.

Review Process

Technically eligible applications will be competitively reviewed according to the criteria stated below. These criteria are not rank ordered and all carry equal weight in the proposal evaluation:

1. Program Planning and Ability to Achieve Program Objectives: Program objectives should be stated clearly and should reflect the applicant's expertise in the subject area and region. Objectives should respond to the priority topics in this announcement and should relate to the current conditions in the target countries. A detailed agenda and relevant work plan should explain how objectives will be achieved and should include a timetable for completion of major tasks. The substance of workshops, internships, seminars and/or consulting should be described in detail. Sample training schedules should be outlined. Responsibilities of in-country partners should be clearly described.

2. Institutional Capacity: The proposal should include (1) the U.S. institution's mission and date of establishment; (2) detailed information about the in-country partner institution's capacity and the history of the U.S. and in-country partnership; (3) an outline of prior awards—U.S. government and private support received for the target theme/region; and (4) descriptions of experienced staff members who will implement the program. Proposed personnel and institutional resources should be adequate and appropriate to achieve the program's goals. The proposal should reflect the institution's expertise in the subject area and knowledge of the conditions in the target country. Proposals should demonstrate an institutional record of successful exchange programs, including responsible fiscal management and full compliance with all reporting requirements for past Bureau grants as determined by Bureau Grant Staff. The Bureau will consider the past performance of prior recipients and the demonstrated potential of new applicants.

3. Cost Effectiveness and Cost Sharing: Overhead and administrative costs in the proposal budget, including salaries, honoraria and subcontracts for services, should be kept to a minimum. Under this review criterion proposals whose administrative costs are less than twenty-five (25) percent of the total funds requested from the Bureau will be considered more competitive. Applicants are strongly encouraged to cost share a portion of overhead and administrative expenses. Cost-sharing, including contributions from the applicant, the in-country partner, and other sources should be included in the budget request. Proposal budgets that do not provide cost-sharing will be deemed not competitive in this category.

4. Support of Diversity: Proposals should demonstrate substantive support of the Bureau's policy on diversity. Achievable and relevant features should be cited in both program administration (selection of participants, program venues and program evaluation) and program content (orientation and wrap-up sessions, program meetings, resource materials and follow-up activities). Applicants should refer to the Bureau's Diversity, Freedom and Democracy Guidelines in the Proposal Submission Instructions (PSI).

5. Evaluation: Proposals should include a detailed plan to monitor and evaluate the program. A draft survey questionnaire plus a description of a methodology that will link outcomes to original project objectives should be provided. Successful applicants will be expected to submit intermediate reports after each project component concludes or on a quarterly basis, whichever is less frequent.

6. Post-Grant Activities: Applicants should provide a plan to conduct activities after the Bureau-funded project has concluded in order to ensure that Bureau-supported programs are not isolated events. Funds for all post-grant activities must be in the form of contributions from the applicant or sources outside of the Bureau. Costs for these activities should not appear in the proposal budget, but should be outlined in the narrative.

Authority

Overall grant making authority for this program is contained in the Mutual Educational and Cultural Exchange Act of 1961, Public Law 87-256, as amended, also known as the Fulbright-Hays Act. The purpose of the Act is “to enable the Government of the United States to increase mutual understanding between the people of the United States and the people of other countries * * *; to strengthen the ties which unite us with other nations by demonstrating the educational and cultural interests, developments, and achievements of the people of the United States and other nations * * * and thus to assist in the development of friendly, sympathetic and peaceful relations between the United States and the other countries of the world.” The funding authority for the program above is provided through Fulbright-Hayes legislation.

Notice

The terms and conditions published in this RFGP are binding and may not be modified by any Bureau representative. Explanatory information provided by the Bureau that contradicts published language will not be binding.

Issuance of the RFGP does not constitute an award commitment on the part of the Government. The Bureau reserves the right to reduce, revise, or increase proposal budgets in accordance with the needs of the program and the availability of funds. Awards made will be subject to periodic reporting and evaluation requirements.

Notification

Final awards cannot be made until funds have been appropriated by Congress, allocated and committed through internal Bureau procedures.

Dated: April 9, 2004.
C. Miller Crouch,
Principal Deputy Assistant Secretary, Bureau of Educational and Cultural Affairs, Department of State.

[FR Doc. 04-8584 Filed 4-14-04; 8:45 am]

BILLING CODE 4710-05-P